CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, CNCS is soliciting comments concerning its new AmeriCorps VISTA Sponsor Recruitment Practices Survey. AmeriCorps VISTA sponsor organizations will provide information about their approach to VISTA member recruitment in order for CNCS to design recruitment strategies and materials for the VISTA program. Completion of this information collection is not required to be considered for or to obtain grant funding support.

Copies of the information collection request can be obtained by contacting the office listed in the Addresses section of this notice.

DATES: Written comments must be submitted to the individual and office listed in the ADDRESSES section by February 25, 2014.

ADDRESSES: You may submit comments, identified by the title of the information collection activity, by any of the following methods:

(1) By mail sent to: Corporation for National and Community Service, AmeriCorps VISTA; Elizabeth Matthews, Outreach Specialist, 9110B; 1201 New York Avenue NW., Washington, DC 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Elizabeth Matthews, (202-606-6774) or by email at ematthews@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

AmeriCorps VISTA sponsor organizations will provide information about their approach to VISTA member recruitment in order for CNCS to design recruitment strategies and materials for the VISTA program. The information will be collected through the tool, SurveyGizmo, which will be delivered electronically through an email.

Current Action

This is a new information collection request. CNCS would like to submit AmeriCorps VISTA Sponsor Recruitment Practices Survey. AmeriCorps VISTA sponsor organizations will provide information about their approach to VISTA member recruitment in order for CNCS to design recruitment strategies and materials for the VISTA program. Completion of this information collection is not required to be considered for or to obtain grant funding support.

The information collection will otherwise be used in the same manner as the existing application. CNCS also seeks to continue using the current application until the revised application is approved by OMB.

Type of Review: New.

Agency: Corporation for National and Community Service.

Title: AmeriCorps VISTA Sponsor Recruitment Practices Survey.

OMB Number: None.

Agency Number: None.

Affected Public: AmeriCorps VISTA sponsor organizations. Sponsor organizations direct the VISTA project, supervise the AmeriCorps VISTA members, and provide necessary administrative support to complete the goals and objectives of the project.

Total Respondents: 1,800.

Frequency: Once per respondent.

Average Time Per Response: Averages 10 minutes.

Estimated Total Burden Hours: 18,000 hours.

Total Burden Cost (capital/startup): None.

Total Burden Cost (operating/maintenance): None.

Comments submitted in response to this notice will be summarized and/or included in the request for Office of Management and Budget approval of the information collection request; they will also become a matter of public record.

Dated: December 19, 2013.
Mary Strasser,
Director, AmeriCorps VISTA.

[FR Doc. 2013-30921 Filed 12-26-13; 8:45 am]

BILLING CODE 6050-28-P